DEPARTMENT OF ENERGY

Federal Energy Regulatory Commission

Combined Notice of Filings #1

Take notice that the Commission received the following electric corporate filings:

Docket Numbers: EC20-25-000.

Applicants: BP America Production Company.

Description: Application for Authorization Under Section 203 of the Federal Power Act, et al. of BP America Production Company.

Filed Date: 12/11/19.

Accession Number: 20191211-5061.

Comments Due: 5 p.m. ET 1/2/20

Take notice that the Commission received the following electric rate filings:

Docket Numbers: ER15-1882-004.

Applicants: PSEG Energy Resources & Trade LLC.

Description: Report Filing: Record Effective Date for Keystone and Conemaugh Cancellation to be effective N/A.

Filed Date: 10/17/19.

Accession Number: 20191017-5097.

Comments Due: 5 p.m. ET 1/2/20.

Docket Numbers: ER15-2013-009; ER15-2020-007.

Applicants: Talen Energy Marketing, LLC., Talen Montana, LLC.

Description: Notification of Change in Status of the Talen Northwest MBR Sellers.

Filed Date: 12/11/19.

Accession Number: 20191211-5045.

Comments Due: 5 p.m. ET 1/2/20.

Docket Numbers: ER19-2050-003.

Applicants: Midcontinent Independent System Operator, Inc., GridLiance Heartland LLC.

Description: Tariff Amendment: 2019-12-10_Deficiency Response GridLiance Heartland Attachment O to be effective 12/31/9998.

Filed Date: 12/10/19.

Accession Number: 20191210-5074.

Comments Due: 5 p.m. ET 12/31/19.

Docket Numbers: ER19-2567-001.

Applicants: FirstEnergy Solutions Corp.

Description: Compliance filing: Compliance Filing to Reflect Effective Date for Rate Schedule FERC No. 1 to be effective 11/7/2019.

Filed Date: 12/10/19.

Accession Number: 20191210-5143.

Comments Due: 5 p.m. ET 12/31/19.

Docket Numbers: ER19-90-004.

Applicants: Clean Energy Future—Lordstown, LLC.

Description: Report Filing: Refund Report to be effective N/A.

Filed Date: 12/10/19.

Accession Number: 20191210-5100.

Comments Due: 5 p.m. ET 12/31/19.

Docket Numbers: ER20-557-000.

Applicants: PJM Interconnection, L.L.C.

Description: § 205(d) Rate Filing: Second Revised ISA No. 3767; Queue No. AC2-117 to be effective 11/10/2019.

Filed Date: 12/10/19.

Accession Number: 20191210-5188

Comments Due: 5 p.m. ET 12/31/19.

Docket Numbers: ER20-558-000.

Applicants: Duke Energy Carolinas, LLC.

Description: § 205(d) Rate Filing: DEC-NCEMC NITSA Amendment (SA No. 210) to be effective 1/1/2020.

Filed Date: 12/11/19.

Accession Number: 20191211-5002.

Comments Due: 5 p.m. ET 1/2/20.

Docket Numbers: ER20-559-000.

Applicants: Duke Energy Progress, LLC.

Description: § 205(d) Rate Filing: DEP-City of Camden, SC Reimbursement Agmt (RS No. 378) to be effective 2/10/2020.

Filed Date: 12/11/19.

Accession Number: 20191211-5003.

Comments Due: 5 p.m. ET 1/2/20.

Docket Numbers: ER20-560-000.

Applicants: Southwest Power Pool, Inc.

Description: § 205(d) Rate Filing: 3055R2 Associated Electric Cooperative, Inc. NITSA NOA to be effective 8/1/2019.

Filed Date: 12/11/19.

Accession Number: 20191211-5044.

Comments Due: 5 p.m. ET 1/2/20

Docket Numbers: ER20-561-000.

Applicants: Duke Energy Progress, LLC.

Description: § 205(d) Rate Filing: DEP Rate Schedule No. 381 (Nuclear Decomissioning) to be effective 1/1/2020.

Filed Date: 12/11/19.

Accession Number: 20191211-5066.

Comments Due: 5 p.m. ET 1/2/20

Docket Numbers: ER20-562-000.

Applicants: AEP Texas Inc.

Description: § 205(d) Rate Filing: AEPTX-LCRA TSC (Stafford Hill) Facility Development Agreement to be effective 12/4/2019.

Filed Date: 12/11/19.

Accession Number: 20191211-5092.

Comments Due: 5 p.m. ET 1/2/20.

Docket Numbers: ER20-563-000.

Applicants: San Diego Gas & Electric Company.

Description: § 205(d) Rate Filing: 2020 SDGE RS Annual Update to Transmission Owner Tariff to be effective 1/1/2020.

Filed Date: 12/11/19.

Accession Number: 20191211-5096.

Comments Due: 5 p.m. ET 1/2/20

Docket Numbers: ER20-564-000.

Applicants: PJM Interconnection, L.L.C.

Description: § 205(d) Rate Filing: Amendment to Pinnacle ISA, SA No. 2432; Queue No. N47 (amend) to be effective 2/3/2010.

Filed Date: 12/11/19.

Accession Number: 20191211-5103.

Comments Due: 5 p.m. ET 1/2/20.

Docket Numbers: ER20-565-000.

Applicants: Louisville Gas and Electric Company.

Description: § 205(d) Rate Filing: Interconnection with Gridliance and notice of termination of EEI Interconnection to be effective 12/31/9998.

Filed Date: 12/11/19.

Accession Number: 20191211-5113.

Comments Due: 5 p.m. ET 1/2/20.

Docket Numbers: ER20-566-000.

Applicants: Kentucky Utilities Company.

Description: § 205(d) Rate Filing: KU Concurrence to Gridliance Rate Schedule 512 to be effective 12/31/9998.

Filed Date: 12/11/19.

Accession Number: 20191211-5123.

Comments Due: 5 p.m. ET 1/2/20

Docket Numbers: ER20-567-000.

Applicants: California Independent System Operator Corporation.

Description: § 205(d) Rate Filing: 2019-12-11 EIM Implementation Agreement with Avista Corporation to be effective 4/1/2020.

Filed Date: 12/11/19.

Accession Number: 20191211-5124.

Comments Due: 5 p.m. ET 1/2/20.

Take notice that the Commission received the following qualifying facility filings:

Docket Numbers: QF20-388-000.

Applicants: Lancaster General Hospital.

Description: Form 556 of Lancaster General Hospital.

Filed Date: 12/11/19.

Accession Number: 20191211-5030.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2019.
Nathaniel J. Davis, Sr.,
Deputy Secretary.

[FR Doc. 2019-27146 Filed 12-16-19; 8:45 am]

BILLING CODE 6717-01-P